DEPARTMENT OF COMMERCE

Foreign-Trade Zones Board

[Docket 4-2011]

Foreign-Trade Zone 203—Moses Lake, Washington; Application for Manufacturing Authority, SGL Automotive Carbon Fibers, LLC, (Carbon Fiber Manufacturing), Moses Lake, WA

An application has been submitted to the Foreign-Trade Zones Board (the Board) by the Port of Moses Lake Public Corporation, grantee of FTZ 203, requesting export-only manufacturing authority on behalf of SGL Automotive Carbon Fibers, LLC (SGL Automotive), located in Moses Lake, Washington. The application was submitted pursuant to the provisions of the Foreign-Trade Zones Act, as amended (19 U.S.C. 81a-81u), and the regulations of the Board (15 CFR part 400), specifically Section 400.32(b)(1). It was formally filed on January 4, 2011.

The SGL Automotive facility (12 employees initially and up to 250 employees at full production; 60 acres) is located within Site 3 of FTZ 203. This new facility will be used for the manufacture of carbon fiber, all of which will be exported for the exclusive use of BMW Group in its new electric car production. This application requests authority to allow SGL Automotive to conduct manufacturing of carbon fiber (1,500 metric tons at the outset and up to 15,000 metric tons at full capacity) under FTZ procedures for export. Foreign-origin polyacrylonitrile (PAN) fiber (HTSUS 5501.30, duty rate: 7.5%) will be used as the primary production input, which represents some 45 percent of finished product value.

FTZ procedures could exempt SGL Automotive from customs duty payments on the PAN fiber used in export production (100 percent of shipments). FTZ designation could further allow SGL Automotive to realize certain customs-related logistical benefits. Customs duties also could possibly be deferred or reduced on foreign status production equipment. The request indicates that the savings from FTZ procedures would help improve the plant's international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is February 10, 2011. Rebuttal comments in response to material submitted during the foregoing period may be submitted during the subsequent 15-day period to February 25, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Diane Finver at Diane.Finver@trade.gov or (202) 482-1367.

Dated: January 4, 2011.
Andrew McGilvray,
Executive Secretary.

[FR Doc. 2011-398 Filed 1-10-11; 8:45 am]

BILLING CODE 3510-DS-P